DEPARTMENT OF LABOR

Employment and Training Administration

[TA-W-50,366]

Agere Systems, Inc., Optoelectronics Division, Microelectronics Business, Breingsville, PA; Notice of Affirmative Determination Regarding Application for Reconsideration

By letter of March 24, 2003, the International Brotherhood of Electrical Workers, Local 1560 requested administrative reconsideration of the Department of Labor's Notice of Negative Determination Regarding Eligibility to Apply for Worker Adjustment Assistance. The denial notice was signed on January 27, 2003 and published in the Federal Register on February 24, 2003 (68 FR 8619).

The Department of Labor has reviewed the request for reconsideration and has determined that based on information provided by the petitioner and review of the initial investigation, further survey of the subject firm's customers will be conducted.

Conclusion

After careful review of the application, I conclude that the claim is of sufficient weight to justify reconsideration of the Department of Labor's prior decision. The application is, therefore, granted.

Signed at Washington, DC this 12th day of May 2003.
Elliott S. Kushner,
Certifying Officer, Division of Trade Adjustment Assistance.

[FR Doc. 03-13403 Filed 5-28-03; 8:45 am]

BILLING CODE 4510-30-P